DEPARTMENT OF LABOR

Employment and Training Administration

[TA-W-81,739; TA-W-81,739A]

Hewlett-Packard Company, Design Delivery Organization (DDO), Including On-Site Leased Workers From Manpower, Synova Inc., and Pinnacle Technical Resources, Corvallis, OR; Hewlett-Packard Company, Ink Jet & Web Services, World Wide Design Group, Vancouver, WA; Amended Certification Regarding Eligibility To Apply for Worker Adjustment Assistance

In accordance with Section 223 of the Trade Act of 1974, as amended (“Act”), 19 U.S.C. 2273, the Department of Labor issued a Certification of Eligibility to Apply for Worker Adjustment Assistance on September 18, 2012, applicable to workers of Hewlett-Packard Company, Design Delivery Organization (DDO), Corvallis, Oregon. The Department's notice of determination was published in the Federal Register on October 5, 2012 (77 FR 194). Workers are engaged in activities related to the supply of new product introduction, development, and support.

New information obtained by the subject firm revealed that workers at Hewlett-Packard Company, Ink Jet & Web Services, World Wide Design Group, Vancouver, Washington operated in conjunction with Hewlett-Packard Company, DDO, Corvallis, Oregon.

The intent of the Department's certification is to include all workers at Hewlett-Packard Company, DDO, Corvallis, Oregon and Hewlett-Packard Company, Ink Jet & Web Services, World Wide Design Group, Vancouver, Washington who were adversely affected by a shift of services abroad.

The amended notice applicable to TA-W-81,739 is hereby issued as follows:

All workers of Hewlett-Packard Company, Design Delivery Organization (DDO), including on-site leased workers from Manpower, Synova, Inc., and Pinnacle Technical Resources, Corvallis, Oregon (TA-W-81,739), and all workers of Hewlett-Packard Company, Ink Jet & Web Services, World Wide Design Group, Vancouver, Washington (TA-W- 81,739A), who became totally or partially separated from employment on or after June 20, 2011 through September 18, 2012, and all workers in the groups threatened with total or partial separation from employment on date of certification through two years from the date of certification, are eligible to apply for adjustment assistance under Chapter 2 of Title II of the Trade Act of 1074, as amended.

Signed at Washington, DC this 31st day of October, 2012.
Del Min Amy Chen,
Certifying Officer, Office of Trade Adjustment Assistance.

[FR Doc. 2012-27415 Filed 11-8-12; 8:45 am]

BILLING CODE 4510-FN-P